NATIONAL CREDIT UNION ADMINISTRATION

Agency Information Collection Activities: Submission to OMB for Revision to a Currently Approved Collection; Comment Request

AGENCY: National Credit Union Administration (NCUA).

ACTION: Request for comment.

SUMMARY: The NCUA is submitting the following information collection to the Office of Management and Budget (OMB) for review and clearance under the Paperwork Reduction Act of 1995 (Pub. L. 104-13, 44 U.S.C. Chapter 35). This information collection is published to obtain comments from the public.

DATES: Comments will be accepted until January 6, 2005.

ADDRESSES: Interested parties are invited to submit written comments to the NCUA Clearance Officer listed below:

Clearance Officer: Mr. Neil McNamara, National Credit Union Administration, 1775 Duke Street, Alexandria, VA 22314-3428, Fax No. 703-518-6669, E-mail: mcnamara@ncua.gov.

FOR FURTHER INFORMATION CONTACT: Requests for additional information or a copy of the information collection request, should be directed to Tracy Sumpter at the National Credit Union Administration, 1775 Duke Street, Alexandria, VA 22314-3428, or at (703) 518-6444.

SUPPLEMENTARY INFORMATION: Proposal for the following collection of information:

Title: Report of Officials.

OMB Number: 3133-0053.

Form Number: NCUA 4501.

Type of Review: Revision to a currently approved collection.

Description: 12 U.S.C. 1761—This statutory provision requires that a record of the names and addresses of the executive officers, members of the supervisory committee, credit committee, and loan officers shall be filed with the administration within 10 days of their election/appointment.

Respondents: Credit unions.

Estimated No. of Respondents/Recordkeepers: 8,871.

Estimated Burden Hours per Response: 1 hour.

Frequency of Response: Annually.

Estimated Total Annual Burden Hours: 8,871 hours.

Estimated Total Annual Cost: 0.

By the National Credit Union Administration Board on November 1, 2005.
Mary Rupp,
Secretary of the Board.

[FR Doc. 05-22100 Filed 11-4-05; 8:45 am]

BILLING CODE 7535-01-M